DEPARTMENT OF DEFENSE

Department of the Army; Corps of Engineers

Intent To Hold a North Dakota River Task Force Meeting as Established by the Missouri River Protection and Improvement Act of 2000 (Title VII)

AGENCY: U.S. Army Corps of Engineers, DoD.

ACTION: Notice of meeting.

Authority: 41 CFR parts 101-6 and 102-3.

SUMMARY: The duties of the Task Force are to prepare and approve a plan for the use of the funds made available under Title VII to promote conservation practices in the Missouri River watershed, control and remove the sediment from the Missouri River, protect recreation on the Missouri River from sedimentation and protect Indian and non-Indian historical and cultural sites along the Missouri River from erosion.

DATES: North Dakota Missouri River Task Force established by the Missouri River Protection and Improvement Act of 2000 will hold a meeting on June 13, 2006 from 10:30 a.m. to 5 p.m.

ADDRESSES: The meeting will be held at the Best Western Doublewood Inn located at 1400 East Interchange Avenue in Bismarck, North Dakota.

FOR FURTHER INFORMATION CONTACT: Laura Bentley at 402-221-4627.

SUPPLEMENTARY INFORMATION: The objectives of the Task Force are to prepare and approve a plan for the use of the funds made available under Title VII, develop and recommend to the Secretary of the Army ways to implement critical restoration projects meeting the goals of the plan and determine if these projects primarily benefit the Federal Government. Written questions may be sent to Laura Bentley, U.S. Army Corps of Engineers, 106 South 15th Street, Omaha, NE 68102.

Dated: May 26, 2006.
Laura A. Bentley,
Program Manager.

[FR Doc. 06-5275 Filed 6-9-06; 8:45 am]

BILLING CODE 3710-92-M